DEPARTMENT OF COMMERCE

National Oceanic and Atmospheric Administration

[RTID 0648-XE292]

Atlantic Highly Migratory Species; Atlantic Shark Management Measures; 2025 Research Fishery

AGENCY: National Marine Fisheries Service (NMFS), National Oceanic and Atmospheric Administration (NOAA), Commerce.

ACTION: Notice; request for applications.

SUMMARY: NMFS requests applications for the 2025 shark research fishery from commercial shark fishermen with Atlantic shark Directed or Incidental limited access permits. The shark research fishery provides fishery-dependent and biological data collection to support stock assessments and other NMFS' research and management objectives. The only commercial vessels authorized to land sandbar sharks are those participating in the shark research fishery. Shark research fishery participants may also land other species of sharks, dependent on the terms and conditions of their permit. Commercial shark fishermen who are interested in participating in the shark research fishery must submit a completed Shark Research Fishery Permit Application to be considered.

DATES: NMFS must receive Shark Research Fishery Permit Applications no later than December 9, 2024.

ADDRESSES: Please submit completed applications via email to NMFS.Research.Fishery@noaa.gov.

For copies of the Shark Research Fishery Permit Application, please email a request to NMFS.Research.Fishery@noaa.gov. Copies of the Shark Research Fishery Permit Application are also available on the highly migratory species (HMS) website at https://www.fisheries.noaa.gov/atlantic-highly-migratory-species/atlantic-highly-migratory-species-exempted-fishing-permits. Please be advised that NMFS may release your application under the Freedom of Information Act.

FOR FURTHER INFORMATION CONTACT: Karyl Brewster-Geisz or Delisse Ortiz at 301-427-8503, or email NMFS.Research.Fishery@noaa.gov.

SUPPLEMENTARY INFORMATION: HMS fisheries (tunas, billfish, swordfish, and sharks) are managed under the 2006 Consolidated HMS Fishery Management Plan (FMP) and its amendments pursuant to the authority of the Magnuson-Stevens Fishery Conservation and Management Act (16 U.S.C. 1801 et seq.) and consistent with the Atlantic Tunas Convention Act (16 U.S.C. 971 et seq.). HMS implementing regulations are at 50 CFR part 635. Section 635.27(b)(1) describes the commercial shark quotas, § 635.24(a)(1) includes information on retention limits, and § 635.32(f) provides details on the shark research fishery.

In Amendment 2 to the 2006 Consolidated HMS FMP (73 FR 40657, July 7, 2008; corrected at 73 FR 40658, July 15, 2008), NMFS established the shark research fishery, in part, to maintain time series data for stock assessments and to meet NMFS' management and research objectives. Since then, the shark research fishery has allowed for:

• Fishery-dependent data collection for current and future stock assessments;

• Cooperative research to meet NMFS' ongoing objectives;

• Data collection on life-history information used in the sandbar shark (and other species) stock assessments;

• Data collection on habitat preferences that might help reduce fishery interactions through bycatch mitigation;

• Evaluation of the utility of the mid-Atlantic closed area on the recovery of dusky sharks and collection of hook-timer and pop-up satellite archival tag information to determine at-vessel and post-release mortality of dusky sharks; and

• Shark collection to determine the weight conversion factor from dressed weight to whole weight.

The shark research fishery allows selected commercial fishermen the opportunity to earn revenue from selling additional sharks, including sandbar sharks. Only shark research fishery participants are authorized to land sandbar sharks subject to the sandbar quota available each year. The base annual commercial quotas for sandbar sharks is 90.7 metric tons (mt) dressed weight (dw) and for research large coastal sharks (LCS) is 50 mt dw per year, although the quotas may be reduced in the event of overharvests. The selected shark research fishery participants will also be allowed to land other shark species consistent with any restrictions established on their shark research fishery permit. Generally, the shark research fishery permits are valid only for the calendar year for which they are issued.

NMFS requires 100-percent observer coverage on shark research fishery trips. The specific 2025 trip limits and number of trips per month will depend on the availability of funding, number of selected vessels, the availability of observers, the available quota, and the objectives of the research fishery, and will be included in the permit terms at time of issuance. The number of shark research fishery participants varies each year. In 2024, three fishermen participated in the shark research fishery. From 2008 through 2023, an average of 6 fishermen participated in the shark research fishery each year with a range from 3 to 11 fishermen. Overall, the timing and number of trips participants take varies year-to-year based on seasonal availability of certain species and available quota. Specifically, the scientific and research needs of the Agency and the number of NMFS-approved observers available limits the number of trips taken per month. In the last few years, participating vessels on average have been able to take one trip per month. Participants may also be limited in the amount of gear they can deploy on a given set (e.g., number of hooks and sets, soak times, length of longline). These limits have changed both between years and during the year depending on research goals and bycatch limits.

In 2024, NMFS split 90 percent of the sandbar and LCS research fishery quotas equally among selected participants, with 16.3 mt dw (35,935 pounds (lb) dw) of sandbar shark research fishery quota and 9.0 mt dw (19,841 lb dw) of other LCS research fishery quota available to each vessel. NMFS held the remaining quota in reserve to ensure that shark research fishery participants did not exceed the overall sandbar and LCS research fishery quotas. NMFS may use this process again for the 2025 research fishery quotas or may consider other methods of distributing the available quotas. Shark research fishery participants will be notified of their sandbar and LCS research fishery quotas upon issuance of their shark research fishery permits.

In 2024, NMFS continued to implement a regional dusky shark bycatch limit, which was first established in the shark research fishery in 2013, applicable to four regions across the Gulf of Mexico and Atlantic. Per the terms and conditions in the shark research fishery permit, under this limit, when shark research fishery participants bring four or more dusky sharks to the vessel dead in a region, the shark research fishery participants in that region are prohibited from soaking their gear for longer than 3 hours. If, after the change in soak time, three additional dusky shark interactions (alive or dead) are observed, shark research fishery participants are prohibited from making a trip in that region for the remainder of the year, unless otherwise permitted by NMFS. NMFS established slightly different measures for shark research fishery participants in the mid-Atlantic shark closed area in order to allow NMFS observers to place satellite archival tags on dusky sharks and collect other scientific information on dusky sharks while also minimizing any dusky shark mortality. NMFS expects to continue to implement the dusky shark bycatch limit in 2025.

Also in 2024, NMFS provided monetary compensation to participants who had electronic monitoring (EM) sensors installed and operating on their vessels for some of their shark research fishery trips. Similarly, NMFS may provide participants monetary compensation in 2025 for some fishing trips, dependent on the fulfillment of any relevant requirements in the terms and conditions of the permit.

To be considered for selection to participate in the shark research fishery, commercial shark fishermen must submit a completed Shark Research Fishery Permit Application by the deadline noted above (see DATES) showing that the vessel and owner(s) meet the specific criteria outlined below.

Shark Research Fishery Objectives

As established in Amendment 2, each year, a shark board, which is comprised of NMFS representatives from the Southeast Fisheries Science Center (SEFSC) Panama City Laboratory, the Southeast Regional Office Protected Resources Division, and the HMS Management Division, develops the shark research fishery objectives for that year. The 2025 objectives are based on various documents, including the May 2020 Biological Opinion on the Operation of the Atlantic Highly Migratory Species Fisheries Excluding Pelagic Longline and stock assessments for various Atlantic shark species (stock assessments can be found at https://sedarweb.org/).

The 2025 objectives are:

• Collect reproductive, length, sex, and age data from sandbar and other sharks throughout the calendar year for species-specific stock assessments;

• Monitor the size distribution of sandbar sharks and other species captured in the fishery;

• Collect information regarding depredation events;

• Continue ongoing shark tagging programs for identification of migration corridors and stock structure using dart and/or spaghetti tags;

• Maintain time-series of abundance from previously derived indices for the shark bottom longline observer program;

• Acquire fin-clip samples of all shark and other species for genetic analysis;

• Attach satellite archival tags to endangered smalltooth sawfish to provide information on critical habitat, preferred depth, and post-release mortality, consistent with the requirements listed in the take permit issued under section 10 of the Endangered Species Act to the SEFSC Observer Program;

• Attach satellite archival tags to prohibited dusky and other sharks (see table 1 of appendix A to part 635), as needed, to provide information on daily and seasonal movement patterns, and preferred depth;

• Evaluate hooking mortality and post-release survivorship of dusky, hammerhead, blacktip, and other sharks using hook-timers and temperature-depth recorders;

• Evaluate the effects of controlled gear experiments to determine the effects of potential hook changes to prohibited species interactions and fishery yields;

• Examine the size distribution of sandbar and other sharks captured including in the Mid-Atlantic shark time/area closure off the coast of North Carolina from January 1 through July 31;

• Develop allometric and weight relationships of selected species of sharks (e.g., hammerhead sharks, sandbar shark, blacktip shark);

• Collect samples such as liver and muscle plugs for stable isotope analysis as a part of a trophic level-based ecosystem study; and

• Examine the feasibility of using EM to accurately measure soak times of bottom longline sets. This specific objective may require participating vessels to have EM system sensors installed for the duration of the 2025 research fishery. During each research trip, the EM sensors must be operating. NMFS will remove the sensors after the end of the 2025 research fishery.

Selection Criteria

NMFS will only accept Shark Research Fishery Permit Applications from commercial shark fishermen who hold a current Atlantic shark Directed or Incidental limited access permit. If NMFS receives a large number of applications, NMFS will give priority to Directed limited access permit holders to ensure that shark research fishery participants land an appropriate number of sharks to meet the objectives.

The Shark Research Fishery Permit Application includes, but is not limited to, a request for the following information:

• Type of commercial shark permit possessed;

• Past participation and availability in the commercial shark fishery (not including sharks caught for display);

• Past and present availability to participate in the shark research fishery year-round;

• Ability to fish in the regions and seasons requested;

• Ability to attend necessary meetings regarding the objectives and research protocols of the shark research fishery; and

• Ability to carry out the 2025 shark research fishery objectives of the Agency.

NMFS will give preference to those applicants who are willing and available to fish year-round and who affirmatively state that they intend to do so, to ensure the timely and accurate data collection NMFS needs to meet this year's shark research fishery objectives. NMFS will not consider an applicant who has been charged criminally or civilly (e.g., issued a Notice of Violation and Assessment (NOVA) or Notice of Permit Sanction) for any HMS-related violation for participation in the shark research fishery. In addition, NMFS will not consider applicants who were selected to carry an observer in the previous 2 years for any HMS fishery but failed to contact NMFS to arrange the placement of an observer or failed to comply with any other observer regulations per § 635.7. NMFS will make exceptions for vessels that were selected for HMS observer coverage but did not fish in the quarter when selected and thus did not require an observer. NMFS will not consider applicants who do not possess a valid U.S. Coast Guard safety inspection decal when they submit their application. Applicants who have been non-compliant with any of the HMS observer program regulations in the previous 2 years, as described above, may be eligible for future participation in the shark research fishery by demonstrating 2 subsequent years of compliance with observer regulations at § 635.7.

Selection Process

The HMS Management Division will review all applications received by the deadline (see DATES) and develop a list of qualified applicants (i.e., the application is complete and the applicant meets the selection criteria listed above) for participation in the 2025 shark research fishery. The HMS Management Division will provide the list of qualified applicants, without identifying information, to the SEFSC. The SEFSC will then evaluate the list of applicants and, based on the temporal and spatial needs of the objectives, the availability of observers, the availability of applicants, and the available quota for a given year, will select applicants to conduct the prescribed research as part of the shark research fishery. If NMFS determines that a public meeting is necessary, NMFS will announce details of a public selection meeting in a subsequent Federal Register notice.

Once the selection process is complete, NMFS will notify the selected applicants and issue the shark research fishery permits. The shark research fishery permits will be valid through December 31, 2025, unless otherwise specified. If needed, NMFS will arrange a captain's meeting with the shark research fishery participants to discuss the objectives and protocols. In the past, NMFS has often held mandatory captain's meetings before placing observers on vessels, particularly if there are participants who have not participated in recent years or if there are changes in the permit terms and conditions from previous years; NMFS may hold one for the 2025 shark research fishery in early 2025. Once the fishery starts, shark research fishery participants must contact NMFS or the NMFS-designee to arrange the placement of a NMFS-approved observer for each shark research trip, and in the beginning, if needed, to arrange the installation of the specific EM sensor on the vessel. Selected applicants must allow observers the opportunity to perform their duties and assist observers as necessary. At the end of the shark fishery, if applicable, shark research fishery participants must contact NMFS or a NMFS-designee to have the EM sensors removed from the vessel.

A shark research fishery permit will only be valid for the vessel, owner(s), and terms and conditions listed on the permit, and, thus, cannot be transferred to another vessel or owner(s). Shark research fishery participants must carry a NMFS-approved observer on shark research fishery trips. However, issuance of a shark research fishery permit does not guarantee that the permit holder will be assigned a NMFS-approved observer on any particular trip. Rather, issuance indicates that a vessel may be issued a NMFS-approved observer for a particular trip, and on such trips, may be allowed to harvest Atlantic sharks, including sandbar sharks, in excess of the retention limits described in § 635.24(a). Applicable retention limits will be based on available quota, number of vessels participating in the 2025 shark research fishery, NMFS' shark research fishery objectives, the extent of other restrictions placed on the vessel, and may vary by vessel and/or location. When not operating under the auspices of the shark research fishery, the vessel would still be able to land other shark species subject to existing retention limits on trips without a NMFS-approved observer. Additionally, during those times, the vessel would not need to operate the EM sensors.

NMFS annually invites commercial shark limited access permit holders (Directed and Incidental) to submit an application to participate in the shark research fishery (see ADDRESSES). Final decisions on the issuance of a shark research fishery permit will depend on the submission of all required information by the deadline (see DATES), and NMFS' review of applicant information as outlined above. The 2025 shark research fishery will start after the commercial shark fishery opens on January 1, 2025 under base quotas and default retention limits, unless otherwise published in the Federal Register.

Dated: November 5, 2024.
Karen H. Abrams,
Acting Director, Office of Sustainable Fisheries, National Marine Fisheries Service.

[FR Doc. 2024-26050 Filed 11-7-24; 8:45 am]

BILLING CODE 3510-22-P